DEPARTMENT OF THE INTERIOR

Fish and Wildlife Service

Comprehensive Conservation Plan and Environmental Impact Statement for the Julia Butler Hansen Refuge for the Columbian White-Tailed Deer and the Lewis and Clark National Wildlife Refuge

AGENCY: Fish and Wildlife Service, Interior.

ACTION: Notice of intent and announcement of four public open house meetings.

SUMMARY: We, the U.S. Fish and Wildlife Service (Service, we), will be developing a Comprehensive Conservation Plan (CCP) and Environmental Impact Statement (EIS) for the Julia Butler Hansen Refuge for the Columbian White-tailed Deer and the Lewis and Clark National Wildlife Refuge (Refuges). We also announce four public open house meetings. We furnish this notice in order to advise other agencies and the public of our intentions and obtain public comments, suggestions, and information on the scope of issues to include in the Refuges' CCP/EIS.

DATES: Please provide written comments on the scope of the CCP by November 6, 2006. Four public open house meetings will be held to begin the CCP planning process; see SUPPLEMENTARY INFORMATION for dates, times, and locations.

ADDRESSES: Address comments, questions, and requests for further information to: Charlie Stenvall, Project Leader, Willapa National Wildlife Refuge Complex, 3888 SR 101, Illwaco, WA, 98624-9707. Comments may be faxed to (360) 484-3109, or sent via electronic mail to FW1PlanningComments@fws.gov. Additional information about the Refuges is available on the Internet at: http://www.fws.gov/willapa/WillapaNWR/. Addresses for the public meetings are listed under SUPPLEMENTARY INFORMATION.

FOR FURTHER INFORMATION CONTACT: Charlie Stenvall, Project Leader, Willapa National Wildlife Refuge Complex, phone (360) 484-3482.

SUPPLEMENTARY INFORMATION: The Refuges are comprised of several islands located in the lower Columbia River, in Wahkiakum County, Washington, and Clatsop and Columbia Counties, Oregon. The Julia Butler Hansen Refuge was established in 1971 to protect and manage habitat for the endangered Columbian white-tailed deer. The Refuge encompasses more than 6,000 acres of fields, forested tidal swamps, brushy woodlots, marshes, sloughs, and islands along the lower Columbia River, and supports approximately 300 Columbian white-tailed deer. The Lewis and Clark Refuge was established in 1972. The approved Refuge boundary includes 33,500 acres of islands, bars, mud flats, and tidal marshes. The Refuge contains the largest marsh in western Oregon, which provides habitat for wintering and migratory waterfowl, rearing and migratory salmon, and bald eagles.

We furnish this notice in accordance with the National Environmental Policy Act (NEPA) as amended, and its implementing regulations; the National Wildlife Refuge System Administration Act as amended by the National Wildlife Refuge System Improvement Act of 1997 (16 U.S.C. 668dd-668ee) (Act); and Service policies.

The Act requires all lands within the National Wildlife Refuge System to be managed in accordance with an approved CCP. A CCP is a 15-year plan for managing a refuge. Refuge goals and objectives are identified in a CCP, as well as strategies for achieving the purposes for which a refuge was established. During the CCP planning process, we will consider many elements, including wildlife and habitat management and public use opportunities. Public input during the planning process is essential. The CCP for the Julia Butler Hansen and Lewis and Clark Refuges will describe desired conditions for the Refuges, along with how we will implement management strategies over a 15-year time period to achieve those conditions. We will prepare an EIS in accordance with NEPA and its implementing regulations. Until the CCP is completed, the Refuges' management will continue to be guided by their official purposes; Federal legislation regarding management of National Wildlife Refuges; and other legal, regulatory, and policy guidance.

Preliminary Issues, Concerns, and Opportunities

We have identified the following preliminary issues, concerns, and opportunities for the Julia Butler Hansen Refuge, and may address these issues in the CCP. We may identify additional issues during the public comment period. We will consider public comments during development of the goals, management strategies, and alternatives for the draft CCP/EIS.

Wildlife and Habitat Management: What actions should we take to sustain and restore priority species and habitats? Coyotes prey upon Columbian white-tailed deer fawns. Are the methods for coyote removal appropriate to maintain recovery of this endangered deer? How will the Refuge enhance native fish populations? How will the Refuge respond to concerns about West Nile virus and avian influenza virus?

Wilderness Study: Should specific areas of the Refuge, if appropriate and eligible, be designated as wilderness?

Management of Public Access and Use (including Commercial Guiding): What types of recreational opportunities should be provided? Are existing public use opportunities adequate and appropriate?

Education and Outreach: Should existing programs be expanded, to better engage and educate the public about Refuge wildlife and habitat management activities?

We have identified the following preliminary issues, concerns, and opportunities for the Lewis and Clark Refuge, and may address these issues in the CCP. We may identify additional issues during the public comment period. We will consider public comments during development of the goals, management strategies, and alternatives for the draft CCP/EIS.

Dredged materials management: What actions should be taken to improve and maximize wildlife benefits in dredge-spoil areas of the Refuge?

Colonial Nesting Bird Management: How should the Refuge manage and increase colonial nesting bird populations while limiting their impacts on anadromous fish?

Oregon Department of State Lands Management Agreement: Should the Refuge consider developing an agreement with the State to modify management of State lands within the Refuge boundary?

Commercial Guiding: Is commercial guiding for recreational activities compatible with the purposes of the Refuge?

Camping on Refuge Lands: Is camping appropriate and compatible with the Refuge's purposes and is there demand for this activity?

Wilderness Study: Should specific areas of the Refuge, if appropriate and eligible, be designated as Wilderness?

We will evaluate a range of alternatives, and their potential effects on the environment and local communities, in the EIS. We estimate that the draft CCP/EIS will be available for public review in February 2008. We will announce opportunities for public input throughout the CCP/EIS planning process.

Public comments we receive become part of the official public record. We will handle requests for comments in accordance with the Freedom of Information Act, NEPA, and Service and Department of the Interior policies and procedures.

Public Meetings

We will hold four public open house meetings to facilitate public involvement in the CCP planning process. The meetings are scheduled as follows.

1. October 17, 2006, 6:30 p.m. to 8:30 p.m., Cowlitz Public Utility District (PUD), 961 12th Avenue, Longview, WA 98632.

2. October 19, 2006, 7 p.m. to 9 p.m., Astoria Public Library, Flag Room, 450 10th Street, Astoria, OR 97103.

3. October 23, 2006, 7 p.m. to 9 p.m., River Street Meeting Room, 25 River Street, Cathlamet, WA 98612.

4. October 24, 2006, 6:30 p.m. to 8:30 p.m., Clatskanie City Hall, 95 N. Nehalem, Clatskanie, OR 97016.

Dated: September 13, 2006.
David J. Wesley,
Acting Regional Director, Region 1, Portland, Oregon.

[FR Doc. 06-7881 Filed 9-20-06; 8:45 am]

BILLING CODE 4310-55-P